DEPARTMENT OF DEFENSE

Office of the Secretary

Availability of the Fiscal Year 2008 Defense Contract Management Agency (DCMA) Services Contract Inventory

AGENCY: Defense Contract Management Agency, DoD.

ACTION: Notice of availability.

SUMMARY: In accordance with section 2330a of title 10 United States Code as amended by the National Defense Authorization Act for Fiscal Year 2008 (NDAA 08) section 807, the DCMA Executive Director for Contracts, in coordination with the Office of the Director, Defense Procurement and Acquisition Policy, Office of Strategic Sourcing (DPAP/SS) will make available to the public the first inventory of activities performed pursuant to contracts for services. The inventory will be published to the DCMA Web site at the following location: http://www.dcma.mil/siteindex.cfm#I.

DATES: Inventory to be made publicly available within 30 days of publication of this notice.

ADDRESSES: Send written comments or suggestions concerning the inventory to William Javoroski, Contracts Directorate (AQP), Defense Contract Management Agency, 6350 Walker Lane, Room 505, Alexandria, VA 22310-3241.

FOR FURTHER INFORMATION CONTACT: William Javoroski, (703) 428-0787 or e-mail at william.javoroski@dcma.mil.

SUPPLEMENTARY INFORMATION: NDAA 08, section 807 amends section 2330a of title 10 United States Code to require annual inventories and reviews of activities performed on services contracts. The Deputy Under Secretary of Defense (Acquisition and Technology) (DUSD(AT)) transmitted the DCMA inventory to Congress on September 29, 2009.

The DCMA Executive Director for Contracts submitted the DCMA Fiscal Year 2008 Services Contract Inventory to the Office of the DPAP/SS on August 28, 2009. Included with this inventory was a narrative that describes the methodology for data collection, the inventory data, and the plan for review of this inventory. The narrative and cover letters may be downloaded in electronic form (.pdf file) from the following location: http://www.dcma.mil/siteindex.cfm#I. The inventory does not include contract numbers, contractor identification or other proprietary or sensitive information as these data can be used to disclose a contractor's proprietary proposal information.

Dated: October 2, 2009.
Patricia L. Toppings,
OSD Federal Register Liaison Officer, Department of Defense.

[FR Doc. E9-24505 Filed 10-9-09; 8:45 am]

BILLING CODE 5001-06-P